ENVIRONMENTAL PROTECTION AGENCY

[ER-FRL-9055-6]

Environmental Impact Statements; Notice of Availability

Responsible Agency: Office of Federal Activities, General Information 202-564-5632 or https://www.epa.gov/nepa.

Weekly receipt of Environmental Impact Statements (EIS)

Filed March 1, 2021 10 a.m. EST through March 8, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210026, Final, GSA, CA, Chet Holifield Federal Building Tenant Relocation, Review Period Ends: 04/12/2021, Contact: Osmahn Kadri 415-522-3617.

EIS No. 20210027, Final, USACE, NE, U.S. Highway 275 West Point to Scribner Expressway, Review Period Ends: 04/12/2021, Contact: Phil Rezac 402-896-0896.

EIS No. 20210028, Final, BOEM, MA, Vineyard Wind 1 Offshore Wind Energy Project, Review Period Ends: 04/12/2021, Contact: Michelle Morin 703-787-1722.

EIS No. 20210029, Draft, BIA, NV, Southern Bighorn Solar Projects, Comment Period Ends: 04/26/2021, Contact: Chip Lewis 602-390-2014.

Dated: March 8, 2021.
Cindy S. Barger,
Director, NEPA Compliance Division, Office of Federal Activities.

[FR Doc. 2021-05155 Filed 3-11-21; 8:45 am]

BILLING CODE 6560-50-P